DEPARTMENT OF AGRICULTURE

Agricultural Marketing Service

[Docket # AMS-LS-07-0061; LS-07-09]

Lamb Research and Promotion Program; Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget for an extension of the currently approved information collection of the Lamb Promotion, Research, and Information Program. Once approved, AMS will be requesting that the Office of Management and Budget merge this information collection with the information collection for National Research, Promotion and Consumer Information Programs.

DATES: Comments on this notice must be received by July 2, 2007 to be assured of consideration.

Additional Information or Comments: Interested persons are invited to submit written comments concerning this notice of review. Comments must be sent to Kenneth R. Payne, Chief, Marketing Programs, Livestock and Seed Program, AMS, USDA, Room 2628-S, STOP 0251, 1400 Independence Avenue, SW., Washington, DC 20250-0251; Fax: (202) 720-1125; or, online at www.regulations.gov. All comments should reference the docket number, the date, and the page number of this issue of the Federal Register. Comments will be available for public inspection via the Internet at www.regulations.gov or during regular business hours.

SUPPLEMENTARY INFORMATION: Title: Lamb Promotion, Research, and Information Program.

OMB Number: 0581-0198.

Expiration Date of Approval: September 30, 2007.

Type of Request: Extension and revision of a currently approved information collection.

Abstract: The current information collection is essential to carry out the intent of the Commodity Promotion, Research, and Information Act of 1996 (Act) (7 U.S.C. 7411 et seq.) and the Lamb Promotion, Research, and Information Order (Order) (7 CFR part 1280). While the Order imposes certain recordkeeping requirements on persons subject to the Order, some information required under the Order can be compiled from records currently maintained. The Order's provisions have been carefully reviewed, and every effort has been made to minimize these recordkeeping costs or requirements. The requisite forms to be filled for recordkeeping require the minimum information necessary to effectively carry out the requirements of the program, and their use is necessary to fulfill the intent of the Act. Information required for records can be supplied without data processing equipment or outside technical expertise. In addition, there are no training requirements for individuals filling out the forms. The forms are simple, easy to understand, and place as small a burden as possible on those required to file information.

The timing and frequency of collecting information are intended to meet the needs of the industry while minimizing the amount of work necessary to fill out the required reports. In addition, the information included on these forms is not available from other industry sources because such information relates specifically to individuals or organizations subject to the provisions of the Act.

We estimate the paperwork and time burden of the above referenced information collection to be as follows:

Estimate of Burden: Public reporting burden for this collection of information is estimated to average 0.17 hours per response.

Respondents: Producers, seedstock producers, market agencies, first handlers, feeders, and exporters.

Estimated Number of Respondents: 3,929

Estimated Number of Responses per Respondent: 151.12

Estimated Total Annual Burden on Respondents: 8,066.48

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information for those who are to respond, including the use of appropriate automated, electronic, mechanical, or other technological collection techniques or other forms of information technology. Comments must be sent to Kenneth R. Payne, Chief, Marketing Programs, Livestock and Seed Program, AMS, USDA, Room 2628-S, STOP 0251, 1400 Independence Avenue, SW., Washington, DC 20250-0251; Fax: (202) 720-1125; or, online at www.regulations.gov. All comments should reference the docket number, the date, and the page number of this issue of the Federal Register. Comments will be available for public inspection via the Internet at www.regulations.gov or during regular business hours. All responses to this notice will be summarized and included in the request for OMB approval. All comments will become a matter of public record.

Dated: April 25, 2007.
Lloyd C. Day,
Administrator, Agricultural Marketing Service.

[FR Doc. E7-8237 Filed 4-30-07; 8:45 am]

BILLING CODE 3410-02-P